DEPARTMENT OF ENERGY

Federal Energy Regulatory Commission

[Docket Nos. RM01-12-000, RT01-2-000, RT01-10-000, RT01-15-000, ER02-323-000, RT01-34-000, RT01-35-000, RT01-67-000, RT01-74-000, RT01-75-000, RT01-77-000, RT01-85-000, RT01-86-000, RT01-87-000, RT01-88-000, RT01-94-000, RT01-95-000, RT01-98-000, RT01-99-000, RT01-100-000, RT01-101-000, EC01-146-000, ER01-3000-000, RT02-1-000, EL02-9-000, EC01-156-000, ER01-3154-000, and EL01-80-000]

Electricity Market Design and Structure (Cost Benefit Analysis Report); Instructions for Participating in the RTO Cost Benefit Report Teleconferences for Industry and the Public

March 8, 2002.

As described in its March 1, 2002 Notice of Regional Teleconferences and Due Dates for Comments and Reply Comments, the Commission's staff and ICF Consulting will conduct regional teleconferences with members of Industry and the Public on March 18 and 19, 2002. The purpose of the teleconferences is to discuss the results of the RTO Cost Benefit Report and assist interested persons in preparing comment on the report which are due on April 9, 2002. Reply comments are due April 23, 2002.

To participate in the teleconferences, all interested persons must call 1-888-593-9820, within 15 minutes of the scheduled time of the each teleconference. Please provide the operator with your name, the code word for the specific teleconference, and the contact name as listed below. In order to facilitate discussion, it will be more efficient if persons from one organization or group call in on one telephone line. The teleconferences will be transcribed and transcripts will be placed in the appropriate dockets.

Industry and Public Teleconferences

1. Monday, March 18—10 a.m. to 12 p.m. EST. Code Word: MIDWEST. Contact: Ed Meyers.

2. Monday, March 18—2 p.m. to 4 p.m. EST. Code Word: SOUTHEAST. Contact: Ed Meyers.

3. Tuesday, March 19—10 a.m. to 12 p.m. EST. Code Word: NORTHEAST. Contact: Ed Meyers.

4. Tuesday, March 19—2 p.m. to 4 p.m. EST. Code Word: WESTERN. Contact: Ed Meyers.

If you have questions about the teleconferences, please contact one of the persons below.

William Meroney at 202-208-1069 William.meroney@ferc.gov.

Charles Whitmore at 202-208-1256 Charles.whitmore@ferc.gov.

Federal Energy Regulatory Commission, 888 N. Capitol Street, NE., Washington DC 20426.

Magalie R. Salas,
Secretary.

[FR Doc. 02-6249 Filed 3-14-02; 8:45 am]

BILLING CODE 6717-01-P